DEPARTMENT OF THE INTERIOR

Bureau of Land Management

[MTM-79374-01]

Public Land Order No. 7920; Extension of Public Land Order No. 6958; Withdrawal of National Forest System Land To Protect and Preserve the Crystal Park Recreation Area; Montana

AGENCY: Bureau of Land Management, Interior.

ACTION: Public Land Order.

SUMMARY: This Public Land Order (PLO) extends the duration of the withdrawal created by PLO No. 6958, which would otherwise expire March 1, 2023, for an additional 30-year period. PLO No. 6958 withdrew 220 acres of National Forest System land from location and entry under the United States mining laws, but not from leasing under the mineral leasing laws, subject to valid existing rights, to protect and preserve the United States Forest Service (USFS)-managed Crystal Park Recreation Area.

DATES: This PLO takes effect on March 2, 2023.

FOR FURTHER INFORMATION CONTACT: Will Pedde, Land Status Program Manager, U.S. Forest Service Region One, Office of the Regional Forester, Region One, 26 Fort Missoula Road, Missoula, Montana 59804, (406) 329-3204 or will.pedde@usda.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The purpose for which the withdrawal was first made requires the withdrawal extension in order to continue to protect and preserve the USFS-managed Crystal Park Recreation Area, facilities, and capital improvements.

Order

By virtue of the authority vested in the Secretary of the Interior by Section 204(f) of the Federal Land Policy and Management Act of 1976, 43 U.S.C. 1714(f), it is ordered as follows:

1. Subject to valid existing rights, PLO No. 6958 (58 FR 11968 (1993)), which withdrew 220 acres of National Forest System lands from location and entry under the United States mining laws, but not from leasing under the mineral leasing laws, to protect and preserve Crystal Park Recreation Area, is hereby extended for an additional 30-year period.

2. The withdrawal extended by this Order will expire on March 1, 2053, unless, as a result of review conducted prior to the expiration date pursuant to Section 204(f) of the Federal Land Policy and Management Act of 1976, 43 U.S.C. 1714(f), the Secretary determines the withdrawal shall be further extended.

(Authority: 43 CFR 2310)

Shannon A. Estenoz,
Assistant Secretary for Fish and Wildlife and Parks.

[FR Doc. 2023-03721 Filed 2-22-23; 8:45 am]

BILLING CODE 3411-15-P